DEPARTMENT OF ENERGY

Federal Energy Regulatory Commission

[Docket Nos. RP00-464-001, RP00-620-001 and RP00-620-002]

Stingray Pipeline Company, L.L.C.; Notice of Compliance Filing

May 24, 2002.

Take notice that on May 10, 2002 Stingray Pipeline Company, L.L.C. (Stingray) tendered for filing as part of its FERC Gas Tariff, Third Revised Volume No. 1 the following tariff sheets:

Fourth Revised Sheet No. 1

Fifth Revised Sheet No. 2

Third Revised Sheet No. 49

Fifth Revised Sheet No. 58

Second Revised Sheet No. 69

First Revised Sheet No. 115

Sixth Revised Sheet No. 129

Fourth Revised Sheet No.130

Second Revised Sheet No. 131

Fourth Revised Sheet No. 133

Third Revised Sheet No. 138

Third Revised Sheet No. 148

Second Revised Sheet No. 148A

Second Revised Sheet No. 148B

Original Sheet No. 204

Sheet Nos. 205-209

Stingray states that the purpose of this filing is to comply with the Commission's March 29, 2002 order on Stingray's Order No. 637 pro forma compliance filing. Pursuant to Ordering Paragraph (B) of that order, Stingray is not proposing an effective date for the revised tariff sheets at this time.

Stingray states that a copy of this filing has been served to all parties on the official service lists compiled by the Secretary of the Commission in these proceedings.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13674 Filed 5-30-02; 8:45 am]

BILLING CODE 6717-01-P